DEPARTMENT OF HEALTH AND HUMAN SERVICES

National Institutes of Health

National Institute of Mental Health; Amended Notice of Meeting

Notice is hereby given of a change in the meeting of the National Institute of Mental Health Special Emphasis Panel, July 12, 2007, 1 p.m. to July 12, 2007, 4 p.m., National Institutes of Health, Neuroscience Center, 6001 Executive Boulevard, Rockville, MD 20852 which was published in the Federal Register on May 29, 2007, 72 FR 29524.

The meeting will be held on July 11, 2007 and the time has been changed to 1:30 p.m. to 4 p.m. The meeting location remains the same. The meeting is closed to the public.

Dated: June 7, 2007.
Jennifer Spaeth,
Director, Office of Federal Advisory Committee Policy.

[FR Doc. 07-2974 Filed 6-14-07; 8:45 am]

BILLING CODE 4140-01-M